DEPARTMENT OF HEALTH AND HUMAN SERVICES

Administration on Aging

Agency Information Collection Activities; Submission for OMB Review; Comment Request; Revision of Information Collection

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by September 9, 2002.

ADDRESSES: Submit written comments on the collection of information to the Office of Information and Regulatory Affairs, OMB, New Executive Office Bldg., 725 17th St. NW., rm. 10235, Washington, DC 20503, Attn: Allison Herron Eydt, Desk Officer for AoA.

FOR FURTHER INFORMATION CONTACT: Administration on Aging ATTN: Sue Wheaton Cohen Building, 330 Independence Ave, SW., Washington, DC 20201.

SUPPLEMENTARY INFORMATION: In compliance with 44 U.S.C. 3507, AoA has submitted the following proposed collection of information to OMB for review and clearance.

The collection consists of complaint, case, major long-term care issue and program operations information for the Long-Term Care Ombudsman Report (NORS), which State Offices of the Long-Term Care Ombudsman are required to submit annually to the Assistant Secretary for Aging. The collection includes the format and instructions for the report and a form for certifying state compliance with Older Americans Act ombudsman program funding requirements.

AoA estimates the burden of this collection of information as follows: 7620 hours.

In the Federal Register of February 28, 2002 (Vol 67; page 9279), the agency requested comments on the proposed collection of information. No comments were received.

Dated: July 17, 2002.
Josefina G. Carbonell,
Assistant Secretary for Aging.

[FR Doc. 02-20256 Filed 8-8-02; 8:45 am]

BILLING CODE 4154-01-P